SECURITIES AND EXCHANGE COMMISSION

[Release No. 34-44744; File No. SR-Phlx-2001-80]

Self-Regulatory Organizations; Notice of Filing and Immediate Effectiveness of a Proposed Rule Change by the Philadelphia Stock Exchange, Inc. Adopting a Monthly Fee for Trading Post Space That Includes a Kiosk

August 24, 2001.

Pursuant to section 19(b)(1) of the Securities Exchange Act of 1934 (“Act”) ¹ and Rule 19b-4 thereunder,² notice is hereby given that on August 22, 2001, the Philadelphia Stock Exchange, Inc. (“Phlx” or “Exchange”) filed with the Securities and Exchange Commission (“Commission”) the proposed rule change as described in Items I, II, and III, below, which Items have been prepared by the Phlx. The Commission is publishing this notice to solicit comments on the proposed rule change from interested persons.

¹ 15 U.S.C. 78s(b)(1).

² 17 CFR 240.19b-4.

I. Self-Regulatory Organization's Statement of the Terms of Substance of the Proposed Rule Change

The Phlx proposes to amend its schedule of dues, fees, and charges to adopt a fee of $375 per month for trading post space that includes a kiosk,³ which will be imposed on the users of such kiosks, namely specialists.⁴

³ A kiosk is an open, flat surface that contains computer terminals and allows the specialists to face the trading crowd. Generally, post space is space on the Exchange's trading floor for specialists.

⁴ Currently, the fee for trading post space totals $250. According to the Phlx, with respect to specialists at trading posts with a kiosk, the $375 fee would replace the $250 fee for trading post space. Telephone conversation between Edith Hallahan, First Vice President and Deputy General Counsel, Phlx, and Deborah Flynn, Assistant Director, Division of Market Regulation, Commission, on August 23, 2001.

II. Self-Regulatory Organization's Statement of the Purpose of, and Statutory Basis for, the Proposed Rule Change

In its filing with the Commission, the Phlx included statements concerning the purpose of, and basis for, the proposed rule change and discussed any comments it received on the proposed rule change. The text of these statements may be examined at the places specified in Item IV below. The Phlx has prepared summaries, set forth in sections A, B, and C below, of the most significant aspects of such statements.

A. Self-Regulatory Organization's Statement of the Purpose of, and Statutory Basis for, the Proposed Rule Change

1. Purpose

The purpose of the proposed rule change is to amend the Exchange's schedule of dues, fees, and charges to include a fee for trading post space that includes a kiosk.

During the past few years, at a considerable cost to the Exchange, the Exchange has constructed kiosks on its options trading floor to facilitate specialist interaction with the trading crowd by allowing them to directly face the trading crowd.⁵ The proposed fee would help to offset the expense incurred in constructing these kiosks.

⁵ The decision to construct a kiosk at a particular post is solely within the Exchange's discretion.

The proposed fee will be implemented beginning September 1, 2001.⁶ In the case of a newly constructed kiosk, the fee will commence in the first full calendar month after construction is completed.

⁶ This fee is eligible for the monthly credit of up to $1,000 to be applied against certain fees, dues, and charges and other amounts owed to the Exchange by certain members. See Securities Exchange Act Release No. 44292 (May 11, 2001), 66 FR 27715 (May 18, 2001) (SR-Phlx-2001-49).

2. Statutory Basis

The Exchange believes that the proposed rule change is consistent with section 6(b) of the Act,⁷ in general, and furthers the objectives of Section 6(b)(4),⁸ in particular, in that it is an equitable allocation of reasonable fees among the Exchange's members because the members who pay the additional amount for the kiosks incur the benefit of using the kiosks.

⁷ 15 U.S.C. 78f(b).

⁸ 15 U.S.C. 78f(b)(4).

B. Self-Regulatory Organization's Statement on Burden on Competition

The Exchange does not believe that the proposed rule change will impose any inappropriate burden on competition.

C. Self-Regulatory Organization's Statement on Comments on the Proposed Rule Change Received From Members, Participants or Others

No written comments were either solicited or received.

III. Date of Effectiveness of the Proposed Rule Change and Timing for Commission Action

The Exchange has designated the proposed rule change as a fee change pursuant to section 19(b)(3)(A)(ii) of the Act ⁹ and Rule 19b-4(f)(2) thereunder.¹⁰ Accordingly, the proposal will take effect upon filing with the Commission. At any time within 60 days of the filing of the proposed rule change, the Commission may summarily abrogate such rule change if it appears to the Commission that such action is necessary or appropriate in the public interest, for the protection of investors, or otherwise in furtherance of the purposes of the Act.

⁹ 15 U.S.C. 78s(b)(3)(A)(ii).

¹⁰ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Phlx. All submissions should refer to File No. SR-Phlx-2001-80 and should be submitted by September 20, 2001.

For the Commission, by the Division of Market Regulation, pursuant to delegated authority.¹¹
¹¹ 17 CFR 200.30-3(a)(12).
Margaret H. McFarland,
Deputy Secretary.

[FR Doc. 01-21890 Filed 8-29-01; 8:45 am]

BILLING CODE 8010-01-M